DEPARTMENT OF DEFENSE

Department of the Navy

Government-Owned Invention Available for Licensing

AGENCY: Department of the Navy, DOD.

ACTION: Notice.

SUMMARY: The Department of the Navy hereby gives notice of the general availability of exclusive or partially exclusive licenses under the following pending patent. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Serial No. 94/39011 entitled “A Recombinant Polypeptide For Use in the Manufacture of Vaccines Against Campylobacter-induced Diarrhea and to Reduce Colonization” by Lee, Guerry, Berg and Trust filed 15 July 1997. This technology represents an effective vaccine and treatment against Campylobacter diarrhea and comprises a recombinant fusion protein of the maltose binding protein (MBP) of E.coli fused to amino acids 5-337 of the FlaA flagellin of Campylobacter coli VC167. This fusion protein has provided evidence of immunogenicity and protective efficacy against challenge by a heterologous strain of Campylobacter jejuni 81-176 in mammals. The technology avoids the technical problem of inducing the autoimmune Guillain Barre Syndrome (GBS), a post-infection polyneuropathy caused by Campylobacter molecular mimicry of human gangliosides. The technology includes a recombinant DNA construct encoding the immunodominant region of flagellin conserved across the Campylobacter species; expression—systems; methods for inducing an immune response through injectable, intranasal, and oral formulations; and a method for reducing Campylobacter intestinal colonization.

DATES: Applications for an exclusive or partially exclusive license may be submitted at any time from the date of this notice.

ADDRESSES: Navy Medical Research Center (NMRC), 503 Robert Grant Ave, Silver Spring, MD 20910-7500.

FOR FURTHER INFORMATION CONTACT: CDR Charles J. Schlagel, Office of Technology Transfer, NMRC, phone (301) 319-7427, fax (301) 319-7432, e-mail schlagelc@nmripo.nmri.nnmc.navy.mil.

Dated: March 10, 2000.
J.L. Roth,
Lieutenant Commander, Judge Advocate General's Corps, U.S. Navy, Federal Register Liaison Officer.

[FR Doc. 00-7319 Filed 3-23-00; 8:45 am]

BILLING CODE 3810-FF-P